DEPARTMENT OF TRANSPORTATION

Federal Aviation Administration

14 CFR Parts 25

[Docket No. FAA-2013-0142; Amdt. No. 25-141]

RIN 2120-AK12

Harmonization of Airworthiness Standards—Gust and Maneuver Load Requirements; Correction

Correction

In FAA rule document 2015-01205 appearing on pages 4761-4762 in the issue of Thursday, January 29, 2015, make the following corrections:

1. On page 4762 in the first column, the second paragraph should read as follows:

This document corrects three errors in the Greek letters and subscripts contained in various equations in the regulatory text. In one case, the “U” in the equation is changed from subscript to regular, uppercase text. In another case, instead of “PL = PL−1g ± UσĀ”, the equation should be “PL = PL−1g±UσĀ”. In two cases, the three Greek letters “ρεφ” after sigma “σ” in the subscript of “U” are changed to “ref”. In these cases, “Uσρεϕ” should be “Uσref”.

2. On page 4762 in the first column, the third, fourth and fifth paragraphs following the Corrections heading should read as follows:

2. On page 73467, second column, line 11, the equation “PL = PL−1g ± UσĀ” is corrected to read “PL = PL−1g ± UσĀ”.

3. On page 73467, second column, fifth line from the bottom, the equation “Uσ = UσρεϕFg” is corrected to read “Uσ = Uσref Fg”.

4. On page 73467, second column, third line from the bottom, the text “Uσρεϕ” is corrected to read “Uσref”.

[FR Doc. C1-2015-01205 Filed 2-4-15; 8:45 am]

BILLING CODE 1505-01-D